DEPARTMENT OF ENERGY

Orders Granting Authority To Import and Export Natural Gas, To Import and Export Liquefied Natural Gas, and To Vacate Authorization During March 2016

| FE Docket Nos.
ENSTOR ENERGY SERVICES, LLC (formerly known) as IBERDROLA ENERGY SERVICES, LLC | 14-104-NG
ENSTOR ENERGY SERVICES, LLC (formerly known) as IBERDROLA ENERGY SERVICES, LLC) | 15-172-NG
WEST TEXAS GAS, INC | 16-17-NG
GLOBAL PURE ENERGY, LLC | 16-24-NG
ENERGIA DEL CARIBE, S.A | 16-23-NG
ALCOA INC. | 16-27-NG
CAMERON LNG, LLC | 15-67-LNG
IRVING OIL COMMERCIAL GP | 16-21-NG
IRVING OIL TERMINALS OPERATIONS INC | 16-20-NG
NJR ENERGY SERVICES COMPANY | 16-30-NG
SHELL ENERGY NORTH AMERICA (US), L.P | 16-32-NG
PROMETHEUS ENERGY GROUP, INC | 16-31-LNG
IBERDROLA CANADA ENERGY | 16-19-NG
BG LNG SERVICES, LLC | 16-01-LNG
ENSTOR ENERGY SERVICES, LLC | 16-36-NG
ENSTOR ENERGY SERVICES, LLC | 16-37-NG
NATIONAL FUEL RESOURCES, INC | 16-35-NG

AGENCY: Office of Fossil Energy, Department of Energy.

ACTION: Notice of orders.

SUMMARY: The Office of Fossil Energy (FE) of the Department of Energy gives notice that during March 2016, it issued orders granting authority to import and export natural gas, to import and export liquefied natural gas (LNG), and to vacate authority. These orders are summarized in the attached appendix and may be found on the FE Web site at http://energy.gov/fe/listing-doefe-authorizationsorders-issued-2016.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on April 14, 2016.
John A. Anderson,
Director, Office of Regulation and International Engagement, Office of Oil and Natural Gas.

Appendix—DOE/FE Orders Granting Import/Export A
3489-A | 03/23/16 | 14-104-NG | Enstor Energy Services, LLC (formerly known as Iberdrola Energy Services, LLC) | Order vacating blanket authority to import/export natural gas from/to Mexico.
3745-A | 03/23/16 | 15-172-NG | Enstor Energy Services, LLC (formerly known as Iberdrola Energy Services, LLC) | Order vacating blanket authority to import/export natural gas from/to Canada.
3793 | 03/15/16 | 16-17-NG | West Texas Gas, Inc | Order granting blanket authority to export natural gas to Mexico.
3794 | 03/15/16 | 16-24-NG | Global Pure Energy, LLC | Order granting blanket authority to import/export natural gas from/to Canada/Mexico.
3795 | 03/15/16 | 16-23-NG | Energia del Caribe, S.A | Order granting blanket authority to export natural gas to Mexico.
3796 | 03/15/16 | 16-27-NG | Alcoa Inc | Order granting blanket authority to import natural gas from Canada.
3797 | 03/18/16 | 15-67-LNG | Cameron LNG, LLC | Final Opinion and Order granting Long-term Multi-contract authority to export LNG by vessel from the Cameron Parish Terminal located in Cameron and Calcasieu Parishes, Louisiana, to Non-free Trade Agreement Nations.
3798 | 03/17/16 | 16-21-NG | Irving Oil Commercial GP | Order granting blanket authority to export natural gas to Canada.
3799 | 03/17/16 | 16-20-NG | Irving Oil Terminals Operations Inc | Order granting blanket authority to import natural gas from Canada.
3800 | 03/17/16 | 16-30-NG | NJR Energy Services Company | Order granting blanket authority to import/export natural gas from/to Canada.
3801 | 03/17/16 | 16-32-NG | Shell Energy North America (US), L.P | Order granting blanket authority to export LNG to Canada/Mexico by vessel/truck, and to import LNG from various international sources by vessel.
3802 | 03/17/16 | 16-31-LNG | Prometheus Energy Group, Inc | Order granting blanket authority to import/export LNG to Canada/Mexico by truck.
3804 | 03/18/16 | 16-19-NG | Iberdrola Canada Energy Services, Ltd | Order granting blanket authority to import/export natural gas from/to Canada.
3805 | 03/18/16 | 16-01-LNG | BG LNG Services, LLC | Order granting blanket authority to import LNG from various international sources by vessel.
3806 | 03/21/16 | 16-36-NG | Enstor Energy Services, LLC | Order granting blanket authority to import/export natural gas from/to Canada.
3807 | 03/21/16 | 16-37-NG | Enstor Energy Services, LLC | Order granting blanket authority to import/export natural gas from/to Mexico.
3808 | 03/29/16 | 16-35-NG | National Fuel Resources, Inc | Order granting blanket authority to import/export natural gas from/to Canada/Mexico.

[FR Doc. 2016-09387 Filed 4-21-16; 8:45 am]

BILLING CODE 6450-01-P